INTERNATIONAL TRADE COMMISSION

[Investigation No. 332-352]

Andean Trade Preference Act: Effect on the U.S. Economy and on Andean Drug Crop Eradication

AGENCY: International Trade Commission.

ACTION: Notice of opportunity to submit comments in connection with the 2001 ATPA report.

EFFECTIVE DATE: June 5, 2002.

FOR FURTHER INFORMATION CONTACT: Joanne Guth (202-205-3264), Country and Regional Analysis Division, Office of Economics, U.S. International Trade Commission, Washington, DC 20436.

Background

This report is being prepared under section 332(g) of the Tariff Act of 1930 following receipt of a request on May 22, 2002, from the Committee on Ways and Means of the United States House of Representatives. Previous reports in this series were provided pursuant to section 206 of the Andean Trade Preference Act (ATPA) (19 U.S.C. 3204). The Committee noted that the Commission's authority to prepare such reports under section 206 expired on December 4, 2001, and requested continuation of the report series for 2001 in light of the current legislative uncertainty regarding ATPA renewal.

As requested by the Committee, the Commission's 2001 report will be similar in scope to that of previous reports in the series, and will analyze the economic impact of ATPA on U.S. industries and consumers and, in conjunction with other agencies, the effectiveness of ATPA in promoting drug-related crop eradication and crop substitution efforts of the beneficiary countries. The report will include:

(1) The actual effect of ATPA on the U.S. economy generally as well as on specific domestic industries which produce articles that are like, or directly competitive with, articles being imported under the Act;

(2) The probable future effect that ATPA will have on the U.S. economy generally and on domestic industries affected by the Act; and

(3) The estimated effect that ATPA has had on drug-related crop eradication and crop substitution efforts of beneficiary countries.

Notice of institution of the investigation and the schedule for such reports under section 206 of ATPA was published in the Federal Register of March 10, 1994 (59 FR 11308). As requested by the Committee, the Commission's report covering calendar year 2001 will be submitted by September 30, 2002.

Written Submissions

The Commission does not plan to hold a public hearing in connection with the preparation of this eighth report. However, interested persons are invited to submit written statements concerning the matters to be addressed in the report. Commercial or financial information that a party desires the Commission to treat as confidential must be submitted on separate sheets of paper, each clearly marked “Confidential Business Information” at the top. All submissions requesting confidential treatment must conform with the requirements of section 201 of the Commission's Rules of Practice and Procedure (19 CFR 201.6). All written submissions, except for confidential business information, will be made available for inspection by interested persons in the Office of the Secretary to the Commission. The Committee on Ways and Means has asked that the Commission transmit and publish a public report; accordingly, the Commission will not include confidential business information in its report. To be assured of consideration by the Commission, written statements relating to the Commission's report should be submitted at the earliest practical date and should be received no later than July 2, 2002.

Address all submissions to Office of the Secretary, U.S. International Trade Commission, 500 E St., SW., Washington, DC 20436. Hearing-impaired persons are advised that information on this matter can be obtained by contacting the Commission's TDD terminal on (202) 205-1810.

Issued: June 6, 2002.
By order of the Commission.
Marilyn R. Abbott,
Secretary.

[FR Doc. 02-14693 Filed 6-11-02; 8:45 am]

BILLING CODE 7020-02-P